DEPARTMENT OF HOUSING AND URBAN DEVELOPMENT

[Docket No. FR-7075-N-13]

60-Day Notice of Proposed Information Collection: Eviction Protection Grant Program; OMB Control No.: 2528-0331

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: January 16, 2024.

ADDRESSES: Interested persons are invited to submit comments regarding this proposal.

Written comments and recommendations for the proposed information collection can be submitted within 60 days of publication of this notice to www.reginfo.gov/public/do/PRAMain. Find this particular information collection by selecting, “Currently under 60-day Review—Open for Public Comments” or by using the search function. Interested persons are also invited to submit comments regarding this proposal by name and/or OMB Control Number and can be sent to: Anna Guido, Reports Management Officer, REE, Department of Housing and Urban Development, 451 7th Street SW, Room 8210, Washington, DC 20410-5000 or email at PaperworkReductionActOffice@hud.gov.

FOR FURTHER INFORMATION CONTACT: Anna Guido, Reports Management Officer, Department of Housing and Urban Development, 451 7th Street SW, Washington, DC 20410; email; Anna.P.Guido@hud.gov; telephone 202-402-5535 (this is not a toll-free number). HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A.

A. Overview of Information Collection

Title of Information Collection: Eviction Protection Grant Program.

OMB Approval Number: 2528-0331.

Type of Request: Revision of a currently approved collection.

Form Number: N/A.

Description of the need for the information and proposed use: The Office of Policy Development and Research (PD&R), at the U.S. Department of Housing and Urban Development (HUD), is proposing the collection of additional information for the Eviction Protection Grant Program (EPGP).

The goal of this effort is to facilitate required management functions and analyses of the outcomes of HUD's Eviction Protection Grant Program. This research is expected to help the Federal government, states, and communities throughout the United States improve housing stability for households at risk of eviction or subject to eviction. In addition, this program can benefit municipalities and landlords per avoidance of evictions, improved timelines for evictions, reducing unpaid unit vacancies, and reducing the costs of litigation. This research will be used to assess the overall program, to include grantee and client outcomes. It will also assess variations in regional and local implementation of EPGP grants. The findings will support HUD in identifying opportunities for changes to legislation, policy, and program implementation for eviction support services.

This Federal Register Notice provides an opportunity to comment on the information collection for this effort entitled Updating Eviction Protection Grant Program Documents. This information collection is designed to support the study of households at risk of or subject to eviction, specifically to identify effective processes and corresponding outcomes for eviction support programs and translate this research into actionable programmatic recommendations with appropriate timelines, policy making and implementation changes to improve these outcomes. The project includes data collection among HUD EPGP grantees and clients who receive eviction support services.

Respondents: EPGP grantee representatives and administrators, and EPGP grantee clients.

Estimated Number of Respondents: This information collection will affect 21 EPGP grantee organizations and tens of thousands of households who interact with the grantee organizations. Grantees will collect data on all households served, to include racial, age, income and other demographics, the eviction-related services provided, and case outcomes. Grantees will further provide additional details about grant execution to meet the needs and obligations of the EPGP.

Information collection | Number of respondents | Frequency of response | Responses per annum | Burden hours per response | Annual burden hours | Hourly cost per response | Cost
Pre award
NOFO application narrative | 100 | 1 | 100 | 40 | 4,000 | $52.36 | $209,440
Application for Federal Assistance (SF-424) | 0 | 0 | 0 | 0 | 0 | 0.00 | 0.00
Disclosure of Lobbying Activities (SF-LLL) | 0 | 0 | 0 | 0 | 0 | 0.00 | 0.00
Detailed Budget Worksheet, 424 CBW | 100 | 1 | 100 | 3.12 | 312 | 52.36 | 16,336.32
Disclosure/Update Report (Form HUD-2880) | 100 | 1 | 100 | 2 | 200 | 52.36 | 10,472
Total Pre award | 100 | 1 | 100 | 45.12 | 4,512 | 52.36 | 236,248.32
Post award
Grant work plan | 21 | 1 | 21 | 2 | 42 | 56.50 | 2,373.00
Detailed Budget Worksheet, 424 CBW | 21 | 1 | 21 | 3.12 | 65.5 | 56.50 | 3,700.75
Client Services and Outcomes Report, 52698 | 21 | * 1,000 | 21,000 | 0.25 | 5,250 | 56.50 | 296,625.00
Extended Outcomes Report 52698(a) † | 21 | 4 | 84 | 0.03 | 630 | 56.50 | 35,595
Benchmarks Plan and Report, 52699 | 21 | 4 | 84 | 0.5 | 42 | 56.50 | 2,373.00
Grant Detailed Voucher Worksheet, 52700 | 21 | 4 | 84 | 1 | 84 | 56.50 | 4,746.00
Grant reporting (narratives, existing process) | 21 | 4 | 84 | 2 | 168 | 56.50 | 9,492.00
Total Post award | 21 | 18 | 21,378 | 8.9 | 6,281.5 | 56.50 | 354,904.75
Totals | 268 | 19 | 21,478 | 54.02 | 10,793.5 | ‡ 56.50 | 591,153.07
* Anticipated average number of annual responses per respondent (grantee), to be reported to HUD quarterly with grant activity report.
† The 52698a combines individual 52698 form data into a comprehensive database document. Completion might occur simultaneously with the 52698 if using integrated software (21,000 responses), or data entry may require 2 additional minutes per form.
‡ The “Avg. Hourly Wage Rate” for each respondent reflects a wage of $35.87 pre-award (2021) and $38.70 post-award (2023) for professional and business services and a 1.46 multiplier to reflect a fully loaded wage rate.

Estimated Time per Response: Please see the tables below.

Frequency of Response: Please see the tables below.

Estimated Total Annual Cost: The pre-award period is complete, and unchanged for the initial 2021 EPGP notice. Active post-award costs are estimated to be $354,904.75. To collect sufficient information to meaningfully rate and rank applicants, a significant amount of information is requested through the NOFO. However, the NOFO has been designed to ask only for essential information and imposes strict page limits to reduce the burden. Two years of program execution resulted in the requirements and estimates shown below for the post award phase. The pre award portion of the table is unchanged from the initial submission. Note that the hourly and total costs were adjusted per wage inflation between 2021 and 2023.

Three federal staff members will review each eligible NOFO application. A single staff member will be responsible for all post award review. The number of hours and costs for staff to review are reflected in the following chart:

Information collection | Number of submissions | Frequency | Responses per year | Hrs. per review | Total hrs (per person) | Average pay per hr. | Total staff cost
Pre award review
NOFO Narrative | 100 | 1 | 100 | 2 | 200 | $98.04 | $19,608
Application for Federal Assistance (SF-424) | 0 | 0 | 0 | 0 | 0 | 0 | 0
Disclosure of Lobbying Activities (SF-LLL) | 0 | 0 | 0 | 0 | 0 | 0 | 0
Grant Application Detailed Budget Worksheet (424 CBW) | 100 | 1 | 100 | .5 | 50 | 98.04 | 4,902
Disclosure/Update Report (Form HUD-2880) | 100 | 1 | 100 | 2 | 200 | 98.04 | 19,608
Total pre award | 100 | 1 | 100 | 2.7 | 270 | 98.04 | 44,118
Post award review
Assistance Award/Amendment (HUD-1044) | 21 | 1 | 21 | .3 | 6.3 | 105.30 | 663.39
Grant work plan | 21 | 1 | 21 | 2 | 42 | 105.30 | 4,422.60
Detailed Budget Worksheet, 424 CBW | 21 | 1 | 21 | 1 | 21 | 105.30 | 2,211.30
Client Services and Outcomes Report, 52698 * | 21 | 1,000 | 21,000 | NA | NA | 105.30 | NA
Extended Outcomes Report 52698(a) | 21 | 4 | 84 | 1 | 84 | 105.30 | 8,845.20
Benchmarks Plan and Report, 52699 | 21 | 4 | 84 | .5 | 42 | 105.30 | 4,422.60
Grant Detailed Voucher Worksheet, 52700 | 21 | 4 | 84 | 1 | 84 | 105.30 | 8,845.20
Grant reporting (narratives, existing process) | 21 | 4 | 84 | 1 | 84 | 105.30 | 8,845.20
Total post award | 168 | 18 | 399 | 6.8 | 363.3 | 105.30 | 38,255.49
Total | 268 | 19 | 499 | 9.5 | 633.3 | † 105.30 | 82,373.49
* Grantees submit individual 52698 forms online while the new 52698(a) data table report facilitates rapid aggregate analyses by federal staff.
† The “Avg. Hourly Wage Rate” for each respondent reflects a wage of $67.15 pre-award (2021) and $72.12 post-award (2023) and a 1.46 multiplier to reflect a fully loaded wage rate for GS 14, step 5 in the Washington, DC Locality Area (2023 OMB tables).

There are no additional costs for contractor, facilities, computer hardware and software, equipment maintenance, travel, printing, or postage.

Respondent's Obligation: Participation is voluntary.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond; including through the use of appropriate automated collection techniques or other forms of information technology, e.g., permitting electronic submission of responses. HUD encourages interested parties to submit comments in response to these questions.

C. Authority

Section 3507 of the Paperwork Reduction Act of 1995, 44 U.S.C. 3507.

Todd M. Richardson,
General Deputy Assistant Secretary for Policy Development and Research.

[FR Doc. 2023-25301 Filed 11-15-23; 8:45 am]

BILLING CODE 4210-67-P